CONSUMER FINANCIAL PROTECTION BUREAU

[Docket No. CFPB-2023-0026]

Agency Information Collection Activities: Comment Request

AGENCY: Consumer Financial Protection Bureau.

ACTION: Notice and request for comment.

SUMMARY: In accordance with the Paperwork Reduction Act of 1995 (PRA), the Consumer Financial Protection Bureau (CFPB or Bureau) is publishing this notice seeking comment on a Generic Information Collection titled “Junk Fees Timing Study” prior to requesting the Office of Management and Budget's (OMB's) approval of this collection under the Generic Information Collection “Generic Information Collection Plan for Studies of Consumers Using Controlled Trials in Field and Economic Laboratory Settings” under OMB Control Number 3170-0048.

DATES: Written comments are encouraged and must be received on or before May 18, 2023 to be assured of consideration.

ADDRESSES: You may submit comments, identified by the title of the information collection, OMB Control Number (see below), and docket number (see above), by any of the following methods:

• Federal eRulemaking Portal: https://www.regulations.gov. Follow the instructions for submitting comments.

• Email: PRA_Comments@cfpb.gov. Include Docket No. CFPB-2023-0026 in the subject line of the email.

• Mail/Hand Delivery/Courier: Comment Intake, Consumer Financial Protection Bureau (Attention: PRA Office), 1700 G Street NW, Washington, DC 20552. Because paper mail in the Washington, DC area and at the Bureau is subject to delay, commenters are encouraged to submit comments electronically.

Please note that comments submitted after the comment period will not be accepted. In general, all comments received will become public records, including any personal information provided. Sensitive personal information, such as account numbers or Social Security numbers, should not be included.

FOR FURTHER INFORMATION CONTACT: Requests for additional information should be directed to Anthony May, PRA Officer, at (202-435-7278), or email: CFPB_PRA@cfpb.gov. If you require this document in an alternative electronic format, please contact CFPB_Accessibility@cfpb.gov. Please do not submit comments to these email boxes.

SUPPLEMENTARY INFORMATION:

Title of Collection: Junk Fees Timing Study.

OMB Control Number: 3170-0048.

Type of Review: Request for approval of a generic information collection under an existing Generic Information Collection Plan.

Affected Public: Individuals or households.

Estimated Number of Respondents: 5,000.

Estimated Total Annual Burden Hours: 3,750.

Abstract: The Bureau will investigate whether product information provided at the beginning of a product search leads to better choices than information that is revealed gradually during the search process and why. This will be a part of a series of online lab experiments testing differences in consumer choices across different information presentations.

Request for Comments: The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be submitted to OMB as part of its review of this request. All comments will become a matter of public record.

Anthony May,
Paperwork Reduction Act Officer, Consumer Financial Protection Bureau.

[FR Doc. 2023-08171 Filed 4-17-23; 8:45 am]

BILLING CODE 4810-AM-P